FEDERAL DEPOSIT INSURANCE CORPORATION

Agency Information Collection Activities: Proposed Collection Renewals; Comment Request (3064-0099; -0118; -0148 and -0153)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995 (44 U.S.C. chapter 35). Currently, the FDIC is soliciting comment on renewal of the information collections described below.

DATES: Comments must be submitted on or before June 27, 2017.

ADDRESSES: Interested parties are invited to submit written comments to the FDIC by any of the following methods:

• http://www.FDIC.gov/regulations/laws/federal/notices.html.

• Email: comments@fdic.gov. Include the name and number of the collection in the subject line of the message.

• Mail: Manny Cabeza (202-898-3767). Counsel, MB 3007 or Jennifer Jones (202-898-6768), Counsel, MB-3105, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza or Jennifer Jones, at the FDIC address noted above.

SUPPLEMENTARY INFORMATION: Proposal to renew the following currently approved collections of information:

1. Title: Application for Waiver of Prohibition on Acceptance of Brokered Deposits.

OMB Number: 3064-0099.

Form Number: None.

Affected Public: Insured state nonmember banks and state savings associations.

Burden Estimate:

Type of burden | Estimated number of respondents | Estimated time per response (hours) | Frequency of response | Total annual estimated burden (hours)
Reporting | 30 | 6 | On Occasion | 180

General Description of Collection: Section 29 of the Federal Deposit Insurance Act prohibits undercapitalized insured depository institutions from accepting, renewing, or rolling over any brokered deposits. Adequately capitalized institutions may do so with a waiver from the FDIC, while well-capitalized institutions may accept, renew, or roll over brokered deposits without restriction. This information collection captures the burden associated with preparing and filing an application for a waiver of the prohibition on the acceptance of brokered deposits.

There is no change in the method or substance of the collection. The overall reduction in burden hours is a result of economic fluctuation. In particular, the number of respondents has decreased while the hours per response remain the same.

2. Title: Management Official Interlocks.

OMB Number: 3064-0118.

Form Number: None.

Affected Public: Insured state nonmember banks and state savings associations.

Burden Estimate:

Type of burden | Estimated number of respondents | Estimated time per response | Frequency of response | Total annual estimated burden (hours)
Reporting | 3 | 7 | On Occasion | 21

General Description of Collection: The FDIC's Management Official Interlocks regulation, 12 CFR 348, which implements the Depository Institutions Management Interlocks Act (DIMIA), 12 U.S.C. 3201-3208, generally prohibits bank management officials from serving simultaneously with two unaffiliated depository institutions or their holding companies but allows the FDIC to grant exemptions in appropriate circumstances. Consistent with DIMIA, the FDIC's Management Official Interlocks regulation has an application requirement requiring information specified in the FDIC's procedural regulation. The rule also contains a notification requirement.

There is no change in the method or substance of the collection. The overall reduction in burden hours is a result of economic fluctuation as well as the change in complexity of the reporting institutions. In particular, the number of respondents has decreased while the hours per response have increased due to the complexity of the reporting institutions.

3. Title: Interagency Statement on Sound Practices Concerning Complex Structured Finance Transactions.

OMB Number: 3064-0148.

Form Number: Interagency Statement on Sound Practices Concerning Elevated Risk Complex Structured Finance Activities.

Affected Public: Insured state nonmember banks and state savings associations.

Burden Estimate:

Type of burden | Estimated number of respondents | Estimated time per response | Frequency of response | Total annual estimated burden (hours)
Recordkeeping | 4 | 25 | On Occasion | 100

General Description of Collection: The Interagency Statement on Sound Practices Concerning Complex Structured Finance Transactions describes the types of internal controls and risk management procedures that the Agencies believe are particularly effective in assisting financial institutions to identify, evaluate, assess, document, and control the full range of credit, market, operational, legal and reputational risks. A financial institution that engages in complex structured finance transactions should maintain a set of formal, written, firm-wide policies and procedures that are designed to allow the institution to identify and assess these risks.

There is no change in the method or substance of the collection. The overall reduction in burden hours is a result of economic fluctuation. In particular, the number of respondents has decreased while the hours per response remain the same.

4. Title: Regulatory Capital Rules.

OMB Number: 3064-0153.

Form Number: None.

Affected Public: State nonmember banks, state savings associations, and certain subsidiaries of those entities.

Burden Estimate:

Estimated Hourly Burden
| Type of burden | Estimated number of respondents | Estimated time per response | Frequency of response | Total annual estimated burden
BASEL III Advanced Approaches: Recordkeeping and disclosure
Implementation plan—Section _.121(b): Ongoing | Recordkeeping | 2 | 330.0 | On Occasion | 660
Documentation of advanced systems—Section _.122(j): Ongoing | Recordkeeping | 2 | 19.0 | On Occasion | 38
Systems maintenance—Sections _.122(a), _123(a), _.124(a): Ongoing | Recordkeeping | 2 | 27.9 | On Occasion | 56
Supervisory approvals—Sections _.122(d)-(h), _.132(b)(3), _.132(d)(1), _.132(d)(1)(iii): Ongoing | Recordkeeping | 2 | 16.8 | On Occasion | 34
Control, oversight and verification of systems—Sections _.122 to _.124: Ongoing | Recordkeeping | 2 | 11.1 | On Occasion | 22
(CCR)—Section _.132(b)(2)(iii)(A): One-time | Recordkeeping | 1 | 80.0 | On Occasion | 80
(CCR)—Section _.132(b)(2)(iii)(A): Ongoing | Recordkeeping | 2 | 16.0 | On Occasion | 32
(CCR)—Section _.132(d)(2)(iv): One-time | Recordkeeping | 1 | 80.0 | On Occasion | 80
(CCR)—Section _.132(d)(2)(iv): Ongoing | Recordkeeping | 2 | 40.0 | On Occasion | 80
(CCR)—Section _.132(d)(3)(vi): One-time | Recordkeeping | 1 | 80.0 | On Occasion | 80
(CCR)—Section _.132(d)(3)(viii): One-time | Recordkeeping | 1 | 80.0 | On Occasion | 80
(CCR)—Section _.132(d)(3)(viii): Ongoing | Recordkeeping | 2 | 10.0 | Quarterly | 80
(CCR)—Section _.132(d)(3)(ix): One-time | Recordkeeping | 1 | 40.0 | On Occasion | 40
(CCR)—Section _.132(d)(3)(ix): Ongoing | Recordkeeping | 2 | 40.0 | On Occasion | 80
(CCR)—Section _.132(d)(3)(x): One-time | Recordkeeping | 1 | 20.0 | On Occasion | 20
(CCR)—Section _.132(d)(3)(xi): One-time | Recordkeeping | 1 | 40.0 | On Occasion | 40
(CCR)—Section _.132(d)(3)(xi): Ongoing | Recordkeeping | 2 | 40.0 | On Occasion | 80
(OC)—Section _.141(b)(3), _.141(c)(1), _.141(c)(2)(i)-(ii), _.153: One-time | Recordkeeping | 1 | 40.0 | On Occasion | 40
(OC)—Section _.141(c)(2)(i)-(ii): Ongoing | Recordkeeping | 2 | 10.0 | Quarterly | 80
Sections _.142 and _.171: Ongoing | Disclosure | 2 | 5.8 | On Occasion | 12
(CCB and CCYB)—Section _.173, Table 4 (CR) _.173, Table 5 (Securitization) _.173, Table 9 (IRR) _.173, Table 12: Ongoing | Disclosure | 2 | 35.0 | Quarterly | 280
(CCB and CCYB)—Section _.173, Table 4 (CR) Section _.173, Table 5 (Sec.) Section _.173, Table 9 (IRR) Section _.173, Table 12: One-time | Disclosure | 1 | 280.0 | On Occasion | 280
Subtotal: One-time Recordkeeping and Disclosure |  |  |  |  | 740
Subtotal: Ongoing Recordkeeping and Disclosure |  |  |  |  | 1,533
Total Recordkeeping and Disclosure |  |  |  |  | 2,273
Minimum Regulatory Capital Ratios: Recordkeeping
(CCR Operational Requirements)—Sections _.3(c) and _.22(h)(2)(iii)(A): Ongoing | Recordkeeping | 3,787 | 16.0 | On Occasion | 60,592
Subtotal: One-time Recordkeeping |  |  |  |  | 0
Subtotal: Ongoing Recordkeeping |  |  |  |  | 60,592
Total Recordkeeping |  |  |  |  | 60,592
Standardized Approach: Recordkeeping and Disclosure
(QCCP)—Section _.35(b)(3)(i)(A): One-time | Recordkeeping | 1 | 2.0 | On Occasion | 2
(QCCP)—Section _.35(b)(3)(i)(A): Ongoing | Recordkeeping | 3,787 | 2.0 | On Occasion | 7,574
(CT)—Section _.37(c)(4)(i)(E): One-time | Recordkeeping | 1 | 80.0 | On Occasion | 80
(CT)—Section _.37(c)(4)(i)(E): Ongoing | Recordkeeping | 3,787 | 16.0 | On Occasion | 60,592
(SE)—Section _.41(b)(3) and _.41(c)(2)(i): One-time | Recordkeeping | 1 | 40.0 | On Occasion | 40
(SE)—Section _.41(c)(2)(i): Ongoing | Recordkeeping | 3,787 | 2.0 | On Occasion | 7,574
(S.E.)—Section _ .42(e)(2), (C.R.) Sections_ .62(a), (b), & (c), (Q&Q) Sections_ .63(a) & (b): One-time | Disclosure | 1 | 226.3 | On Occasion | 226
(S.E.)—Section _.42(e)(2), (C.R.) Sections_ .62(a), (b), & (c), (Q&Q) Sections_. 63(a) & (b) and _ .63 Tables: Ongoing | Disclosure | 1 | 131.3 | Quarterly | 525
Subtotal: One-time Recordkeeping and Disclosure |  |  |  |  | 348
Subtotal: Ongoing Recordkeeping and Disclosure |  |  |  |  | 76,265
Total Recordkeeping and Disclosure |  |  |  |  | 76,613
Total Burden Hours |  |  |  |  | 139,478

General Description of Collection: This collection comprises the disclosure and recordkeeping requirements associated with minimum capital requirements and overall capital adequacy standards for insured state nonmember banks, state savings associations, and certain subsidiaries of those entities. The data is used by the FDIC to evaluate capital before approving various applications by insured depository institutions, to evaluate capital as an essential component in determining safety and soundness, and to determine whether an institution is subject to prompt corrective action provisions.

There is no change in the method or substance of the collection. The overall reduction in burden hours is a result of economic fluctuation. In particular, the number of respondents has decreased while the hours per response remain the same.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Dated at Washington, DC, this 25th day of April 2017.
Federal Deposit Insurance Corporation.
Robert E. Feldman,
Executive Secretary.

[FR Doc. 2017-08667 Filed 4-27-17; 8:45 am]

BILLING CODE 6714-01-P